ENVIRONMENTAL PROTECTION AGENCY

[EPA-HQ-OECA-2013-0319; FRL-9960-23-OEI]

Information Collection Request Submitted to OMB for Review and Approval; Comment Request; NSPS for VOC Emissions From Petroleum Refinery Wastewater Systems (Renewal)

AGENCY: Environmental Protection Agency (EPA).

ACTION: Notice.

SUMMARY: The Environmental Protection Agency has submitted an information collection request (ICR) to the Office of Management and Budget (OMB) for review and approval in accordance with the Paperwork Reduction Act. This is a proposed extension of an existing ICR, which is currently approved through March 31, 2017. Public comments were previously requested via the Federal Register on May 3, 2016 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before May 1, 2017.

ADDRESSES: Submit your comments, referencing Docket ID Number EPA-HQ-OECA-2013-0319, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: The Environmental Protection Agency has submitted an information collection request (ICR), “NSPS for VOC Emissions from Petroleum Refinery Wastewater Systems (40 CFR part 60, subpart QQQ) (Renewal)” (EPA ICR No. 1136.12, OMB Control No. 2060-0172), to the Office of Management and Budget (OMB) for review and approval in accordance with the Paperwork Reduction Act (44 U.S.C. 3501 et seq.). This is a proposed extension of the ICR, which is currently approved through March 31, 2017. Public comments were previously requested via the Federal Register (81 FR 26546) on May 3, 2016 during a 60-day comment period. This notice allows for an additional 30 days for public comments.

Supporting documents which explain in detail the information that the EPA will be collecting are available in the public docket for this ICR. The docket can be viewed online at www.regulations.gov, or in person at the EPA Docket Center, WJC West, Room 3334, 1301 Constitution Ave. NW., Washington, DC. The telephone number for the Docket Center is 202-566-1744. For additional information about EPA's public docket, visit: http://www.epa.gov/dockets.

Abstract: Owners and operators of petroleum refinery wastewater systems are required to keep records of design and operating specifications of all equipment installed to comply with the standards such as water seals, roof seals, control devices, and other equipment. This information is necessary to ensure that equipment design and operation specifications are met, and the source is in compliance with NSPS Subpart QQQ.

Form Numbers: None.

Respondents/affected entities: Petroleum refinery wastewater systems.

Respondent's obligation to respond: Mandatory (40 CFR part 60, subpart QQQ).

Estimated number of respondents: 149 (total).

Frequency of response: Initially, occasionally, and semiannually.

Total estimated burden: 10,200 hours (per year). Burden is defined at 5 CFR 1320.3(b).

Total estimated cost: $19,400 in either annualized capital/startup or operation & maintenance costs.

Changes in the Estimates: There is an adjustment increase in the overall burden in this ICR when compared to the previous ICR. This is due to a correction from 135 in the previous ICR to 149 in this ICR renewal in the estimated number of petroleum refineries subject to the NSPS. This ICR references the most recently available industry information from the Refinery Sector Rule reconsideration and is consistent with the source count for NSPS Subpart J for petroleum refineries. In addition, this ICR assumes all sources will take time to re-familiarize with the regulation each year.

Courtney Kerwin,
Director, Collection Strategies Division.

[FR Doc. 2017-06323 Filed 3-30-17; 8:45 am]

BILLING CODE 6560-50-P